DEPARTMENT OF COMMERCE

National Oceanic and Atmospheric Administration

50 CFR Part 648

[I.D. 081302B]

Mid-Atlantic Fishery Management Council and New England Fishery Management Council; Public Hearings

AGENCY: National Marine Fisheries Service (NMFS), National Oceanic and Atmospheric Administration (NOAA), Commerce.

ACTION: Notice of supplemental scoping meetings; request for comments.

SUMMARY: The Mid-Atlantic and New England Fishery Management Councils (Councils) are currently developing Amendment 2 to the Monkfish Fishery Management Plan (FMP), pursuant to the Magnuson- Stevens Fishery Conservation and Management Act of 1976, as amended. Among management measures, the FMP implemented a limited access system which restricts participation in the monkish fishery within Federal waters based on historical participation. The Councils are considering revising the monkfish limited access permit system in Amendment 2 to allow vessels that landed monkfish after the original control date in the southern end of the range of the fishery to qualify for permits.

In January 2002, at one of their regularly scheduled meetings, the Councils provided the public with an opportunity to comment on the monkfish limited access permit system in Amendment 2. Once again, the Councils intend to provide the public with an opportunity to comment on this particular issue. The intended effect of this action is to alert interested public of the commencement of this supplemental scoping process and to provide for public participation.

DATES: The Councils will discuss and take scoping comments on options to amend the monkfish limited access program in Amendment 2 at public meetings in September 2002. See SUPPLEMENTARY INFORMATION for specific dates and times. Written scoping comments must be received on or before 5 p.m. EST, September 27, 2002.

ADDRESSES: Written comments should be directed to Daniel T. Furlong, Executive Director, Mid-Atlantic Fishery Management Council, Room 2115 Federal Building, 300 South New Street, Dover, DE 19904-6790. Comments may also be submitted by facsimile (fax) to (302) 674-5399. Comments should be marked “Comments on Monkfish Amendment 2.” The Council will not accept unsigned faxes or comments by e-mail.

FOR FURTHER INFORMATION CONTACT: Daniel T. Furlong, Executive Director, telephone (302) 674-2331, ext. 19.

SUPPLEMENTARY INFORMATION:

Background

A notice of intent to prepare a Monkfish Supplemental Environmental Impact Statement (SEIS) and notice of public scoping process was published in the Federal Register on December 10, 2001 (66 FR 63666). The purpose of this notice was to initiate the public scoping process to determine the scope of the issues to be included in the SEIS for Amendment 2. In particular, this notice sought public comment on the possibility of revising the monkfish limited access program qualification criteria to include Virginia and North Carolina vessels that were excluded from the qualification criteria due to mis-information regarding the extent of the monkfish fishery management unit in a public hearing document for the initial FMP. The public scoping comment period for Amendment 2 ended on February 11, 2002. This notice announces a supplemental scoping process to seek further public comment on options to address the exclusion of Virginia and North Carolina vessels, or other vessels that may meet the revised limited access criteria, from the monkfish limited access fishery.

Scoping Meetings

The public will have an opportunity to provide oral comments on the options that would potentially amend the monkfish limited access program at the September meeting of the New England Fishery Management Council, and three additional public meetings to be held in September, as described below. The dates, times, and locations of the hearings are scheduled as follows:

1. Wednesday, September 11, 2002, 7-9 p.m.—Roanoke Island Festival Park, One Festival Park, Manteo, NC 27954; telephone: 252-475-1500.

2. Wednesday, September 11, 2002, 6-8 p.m.—Providence Biltmore Hotel, Providence, RI 02903; telephone: 401-421-0700.

3. Thursday, September 12, 2002, 7-10 p.m.—Chincoteague Center, 6155 Community Drive, Chincoteague, VA 23336; telephone: 757-336-0614.

Special Accommodations

These public meetings are physically accessible to people with disabilities. Requests for sign language interpretation or other auxiliary aids should be directed to Joanna Davis at the Mid-Atlantic Council at least 5 days prior to the meeting date.

Authority: 16 U.S.C. 1801 et seq.

Dated: August 19, 2002.
Virginia M. Fay,
Acting Director, Office of Sustainable Fisheries, National Marine Fisheries Service.

[FR Doc. 02-21589 Filed 8-22-02; 8:45 am]

BILLING CODE 3510-22-S